DEPARTMENT OF HEALTH AND HUMAN SERVICES

Administration on Aging

2005 White House Conference on Aging

AGENCY: Administration on Aging, HHS.

ACTION: Notice of conference call.

SUMMARY: Pursuant to Section 10(a) of the Federal Advisory Committee Act as amended (5 U.S.C. Appendix 2), notice is hereby given that the Policy Committee of the 2005 White House Conference on Aging (WHCoA) will have a conference call to finalize the resolutions and other items related to the 2005 WHCoA. The conference call will be open to the public to listen, with call-ins limited to the number of telephone lines available. Individuals who plan to call in and need special assistance, such as TTY, should inform the contact person listed below in advance of the conference call. This notice is being published less than 15 days prior to the conference call due to scheduling problems.

DATES: The conference call will be held on Tuesday, November 22, 2005, at 4:30 p.m., eastern standard time.

ADDRESSES: The conference call may be accessed by dialing, U.S. toll-free,

1-800-857-0419, passcode: 8932323, on the date and time indicated above.

FOR FURTHER INFORMATION CONTACT: Kim Butcher, (301) 443-2887, or e-mail at Kim.Butcher@whcoa.gov. Registration is not required. Call in is on a first come, first-served basis.

SUPPLEMENTARY INFORMATION: Pursuant to the Older Americans Act Amendments of 2000 (Pub. L. 106-501, November 2000), the Policy Committee will have a meeting by conference call to finalize on the resolutions that will be mailed to the delegates for review prior to the WHCoA that is scheduled from December 11 to 14, 2005. The public is invited to listen by dialing the telephone number and using the passcode listed above under the Addresses section.

Dated: November 17, 2005.
Edwin L. Walker,
Deputy Assistant Secretary for Policy and Programs.

[FR Doc. 05-23103 Filed 11-21-05; 8:45 am]

BILLING CODE 4154-01-P